DEPARTMENT OF THE INTERIOR

Bureau of Land Management

[WY-030-1430-ES; WYW-158818]

Notice of Realty Action; Recreation and Public Purposes (R&PP) Act Classification

AGENCY: Bureau of Land Management, Interior.

ACTION: Notice.

SUMMARY: The Bureau of Land Management (BLM) has examined and found suitable for classification for lease or conveyance under the provisions of the Recreation and Public Purposes Act, 1.54 acres of public land in Carbon County, Wyoming. Carbon County proposes to use the land for a historic cemetery.

DATES: Comments must be received by March 3, 2008.

ADDRESSES: Comments should be sent to the BLM, Rawlins Field Office, 1300 North 3rd Street, Rawlins, Wyoming 82301, Attn: Janelle Wrigley. Detailed information concerning this action, including appropriate environmental documentation, is available for review at the above address.

FOR FURTHER INFORMATION CONTACT: Janelle Wrigley, Realty Specialist, at the above address or at (307) 328-4279.

SUPPLEMENTARY INFORMATION: In response to an application from the Carbon County Commissioners, Wyoming, the following public lands have been examined and found suitable for classification for lease and/or conveyance under the provisions of the Recreation and Public Purposes Act, as amended (43 U.S.C. 869 et seq.).

Sixth Principal Meridian, Wyoming

T. 22 N., R. 80 W.,

Sec. 26, Lot 4 (metes and bounds survey)

The area described contains 1.54 acres more or less.

The lands are not needed for Federal purposes. Lease and/or conveyance is consistent with the Great Divide RMP, dated November 9, 1990, and would be in the public interest. The patent, if issued, will be subject to the following reservations, terms, and conditions:

(1) Provisions of the Recreation and Public Purposes Act and all applicable regulations of the Secretary of the Interior.

(2) The patentee shall comply with all Federal and State laws applicable to the disposal, placement, or release of hazardous substances (hazardous substances as defined in 40 CFR part 302.)

(3) If, at any time, the patentee transfers to another party ownership of any portion of the land not used for the purpose(s) specified in the application and approved plan of development, the patentee shall pay the Bureau of Land Management the fair market value, as determined by the authorized officer, of the transferred portion as of the date of transfer, including the value of any improvements thereon.

(4) A right-of-way thereon for ditches and canals constructed by authority of the United States, pursuant to the Act of August 30, 1890 (43 U.S.C. 945).

(5) A reservation of all mineral deposits in the land so patented, and a right of the United States, or persons authorized by the United States, to prospect for, mine, and remove such deposits from the same under applicable laws and regulations as the Secretary of the Interior may prescribe.

(6) Any other valid and existing rights and encumbrances of record.

(7) Such other provisions as may be required by law.

Upon publication of this notice in the Federal Register, the lands will be segregated from all other forms of appropriation under the public land laws, including the general mining laws, except for lease/conveyance under the Recreation and Public Purposes Act. The segregative effect shall terminate upon issuance of a patent, upon final rejection of the application, or 18 months from the date of this notice, whichever occurs first.

Classification Comments: Interested parties may submit comments involving the suitability of the land for historical cemetery purposes. Comments on the classification are restricted to whether the land is physically suited for the proposed use, whether the use will maximize the future use or uses of the land, whether the use is consistent with local planning and zoning, or if the use is consistent with State and Federal programs.

Application Comments: Interested parties may submit comments regarding the specific use proposed in the application and plan of development and management, whether the BLM followed proper administrative procedures in reaching the decision, or any other factor not directly related to the suitability of the land for the proposed use.

For a period until March 3, 2008, interested parties and the general public may submit in writing any comments concerning the land being considered for sale, including notification of any encumbrances or other claims relating to the identified land, to the Field Manager, BLM Rawlins Field Office, at the above address. In order to ensure consideration in the environmental analysis of the proposed sale, comments must be in writing and postmarked or delivered within 45 days of the initial date of publication of this Notice. Comments transmitted via e-mail or fax, will not be accepted.

Any objections will be evaluated by the State Director, who may sustain, vacate, or modify this realty action. In the absence of any adverse comments, regarding this realty action, it will become the final determination of the Department of the Interior. In the absence of any adverse comments, regarding the classification action, it will become effective March 18, 2008.

Comments, including names and street addresses of respondents, will be available for public review at the Rawlins Field Office during regular business hours, except holidays. Before including your address, phone number, e-mail address, or other personal identifying information in your comment, you should be aware that your entire comment—including your personal identifying information—may be made publicly available at any time. While you can ask us in your comment to withhold your personal identifying information from public review, we cannot guarantee that we will be able to do so.

(Authority: 43 CFR 2741.4(h)(1)-(4))

Dated: January 4, 2008.
Patrick Madigan,
Rawlins Field Manager.

[FR Doc. E8-874 Filed 1-17-08; 8:45 am]

BILLING CODE 4310-22-P